DEPARTMENT OF ENERGY

Federal Energy Regulatory Commission

[Docket No. PR07-9-000]

Bay Gas Storage Company, Ltd.; Notice of Staff Panel

August 21, 2007.

Take notice that a Staff Panel shall be convened in accordance with the Commission's order issued on August 2, 2007, in the above-captioned docket.¹

¹ Bay Gas Storage Company, Ltd., 120 FERC ¶ 61,130 (2007).

The Staff Panel is being held to allow opportunity for written comments and for the oral presentation of views, data, and arguments regarding the fair and equitable rates to be established for transportation service under section 311 of the Natural Gas Policy Act of 1978 on Bay Gas Storage Company, Ltd.'s system.

The Staff Panel will not be a judicial or evidentiary-type hearing and there will be no cross-examination of persons presenting statements. Members participating on the Staff Panel before whom the presentations are made may ask questions. If time permits, Staff Panel members may also ask such relevant questions as are submitted to them by participants. Other procedural rules relating to the panel will be announced at the time the proceeding commences.

The Staff Panel will be held on Tuesday, September 25, 2007, at 10 a.m. (EDT) in a room to be designated at the offices of the Federal Energy Regulatory Commission, 888 First Street, NE., Washington, DC 20426.

FERC conferences are accessible under section 508 of the Rehabilitation Act of 1973. For accessibility accommodations please send an e-mail to accessibility@ferc.gov or call toll free (866) 208-3372 (voice) or 202-502-8659 (TTY), or send a fax to 202-208-2106 with the required accommodations.

For further information please contact Rita Johnson at (202) 502-6518 or e-mail Rita Johnson@ferc.gov.

Kimberly D. Bose,
Secretary.

[FR Doc. E7-16950 Filed 8-27-07; 8:45 am]

BILLING CODE 6717-01-P